DEPARTMENT OF AGRICULTURE

Animal and Plant Health Inspection Service

[Docket No. APHIS-2006-0172]

Interstate Movement of Garbage from Hawaii; Availability of an Environmental Assessment and Finding of No Significant Impact

AGENCY: Animal and Plant Health Inspection Service, USDA.

ACTION: Notice.

SUMMARY: We are advising the public that an environmental assessment and finding of no significant impact have been prepared by the Animal and Plant Health Inspection Service relative to a request to allow the interstate movement of garbage from Hawaii to a landfill in the State of Washington. The environmental assessment documents our review and analysis of the environmental impacts associated with, and alternatives to, the movement of palletized or containerized baled municipal solid waste to three existing ports on the Columbia River via barge and the transfer and transportation of the waste via truck or rail to the landfill. Based on its finding of no significant impact, the Animal and Plant Health Inspection Service has determined that an environmental impact statement need not be prepared.

FOR FURTHER INFORMATION CONTACT: Mr. David B. Lamb, Import Specialist, Regulatory Coordination and Compliance, PPQ, APHIS, 4700 River Road Unit 133, Riverdale, MD 20737-1231; (301) 734-0627.

SUPPLEMENTARY INFORMATION:

Background

The importation and interstate movement of garbage is regulated by the Animal and Plant Health Inspection Service (APHIS) under 7 CFR 330.400 and 9 CFR 94.5 (referred to below as the regulations) in order to protect against the introduction into and dissemination within the United States of plant and animal pests and diseases.

On January 19, 2010, we published in the Federal Register (75 FR 2845-2846, Docket No. APHIS-2006-0172) a notice¹ in which we announced the availability, for public review and comment, of an environmental assessment documenting our review and analysis of the environmental impacts associated with, and alternatives to, the movement of palletized or containerized baled municipal solid waste to three existing ports on the Columbia River via barge and the transfer and transportation of the waste via truck or rail to the landfill.

¹ To view the environmental assessment, the comments we received and our responses to the comments, and the finding of no significant impact, go to (http://www.regulations.gov/fdmspublic/component/main?main=DocketDetail&d=APHIS-2006-0172).

We solicited comments on the environmental assessment for 30 days ending on February 18, 2010. We received 37 comments by that date. The commenters raised several issues, including the potential for invasive species/pest introductions, impacts on air and water quality, impacts on fish and wildlife habitat, impacts on existing infrastructure (highway, rail, and barge), increased traffic at associated ports, and the adequacy of the environmental assessment’s analysis of cumulative effects.

Our analysis of the comments received and our responses to the issues raised in the comments are contained in a response to comments document that may be viewed on the Regulations.gov Web page (see footnote 1) or obtained from the person listed under FOR FURTHER INFORMATION CONTACT. The response to comments document, along with copies of the environmental assessment and finding of no significant impact, is also available for public inspection at USDA, room 1141, South Building, 14th Street and Independence Avenue SW., Washington, DC, between 8 a.m. and 4:30 p.m., Monday through Friday, except holidays. Persons wishing to inspect copies are requested to call ahead on (202) 690-2817 to facilitate entry into the reading room.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

Done in Washington, DC, this 20th day of May 2010.

Kevin Shea
Acting Administrator, Animal and Plant Health Inspection Service.

[FR Doc. 2010-12828 Filed 5-26-10: 7:27 am]

BILLING CODE 3410-34-S